DEPARTMENT OF THE INTERIOR

National Park Service

Notice of Boundary Revision, Indiana Dunes National Lakeshore, IN

SUMMARY: This notice announces a revision of the boundaries of Indiana Dunes National Lakeshore, Indiana, to include four (4) parcels of land within the boundaries of the National Lakeshore. This action is taken under the authority of 16 U.S.C. 460u-19 (Pub. L. 94-549, enacted October 18, 1976).

FOR FURTHER INFORMATION CONTACT: Superintendent, Indiana Dunes National Lakeshore, 1100 North Mineral Springs Road, Porter, Indiana 46304-1299, or by telephone at 219-926-7561, extension 410.

SUPPLEMENTARY INFORMATION: Notice is hereby provided that the boundaries of Indiana Dunes National Lakeshore are revised. This revision is to include certain parcels of real property situated in Porter County, Indiana, and is effective upon publication of this notice. These parcels will be donated to the United States of America and they are contiguous to the National Lakeshore boundaries. These parcels contain, in aggregate, 0.82 of an acre of land, more or less.

The parcels are identified as follows:

Tract 20-136 and Tract 20-137 on Segment Map 20, Drawing No. 626/35,020.

Tract 100-29 on Segment Map 100, Drawing No. 626/35,100.

Tract 101-15 on Segment Map 101, Drawing No. 626/35,101.

All of the above-cited segment maps are dated July 14, 2004.

These maps are on file at the following locations: U.S. Department of the Interior, National Park Service, Midwest Region, Land Resources, 601 Riverfront Drive, Omaha, Nebraska 68102-2571; Indiana Dunes National Lakeshore, 1100 North Mineral Springs Road, Porter, Indiana 46304-1299.

Dated: October 5, 2004.
Ernest Quintana,
Regional Director, Midwest Region.
Editorial Note: This document was received at the Office of the Federal Register on April 1, 2005.

[FR Doc. 05-6829 Filed 4-5-05; 8:45 am]

BILLING CODE 4312-52-P